DEPARTMENT OF TRANSPORTATION

Federal Aviation Administration

Agency Information Collection Activities: Requests for Comments; Clearance of Renewed Approval of Information Collection: General Aviation and Air Taxi Activity and Avionics Survey

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published February 6, 2018. This information will be used by FAA for safety assessment, planning, forecasting, cost/benefit analysis, and to target areas for research.

DATES: Written comments should be submitted by May 31, 2018.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW, Washington, DC 20503.

FOR FURTHER INFORMATION CONTACT: Barbara Hall at (940) 594-5913, or by email at: Barbara.L.Hall@faa.gov.

SUPPLEMENTARY INFORMATION: OMB Control Number: 2120-0060.

Title: General Aviation and Air Taxi Activity and Avionics Survey.

Form Numbers: 1800-54.

Type of Review: Extension Without Change.

Background: The Federal Register Notice with a 60-day comment period soliciting comments on the following collection of information was published on February 6, 2018. This information is used by FAA for safety assessment, planning, forecasting, cost/benefit analysis, and to target areas for research.

Respondents: 39,000 airmen.

Frequency: Information is collected annually.

Estimated Average Burden per Response: 20 minutes.

Estimated Total Annual Burden: 13,000 hours.

Public comments invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

Issued in Fort Worth, TX, on April 24, 2018.
Barbara Hall,
FAA Information Collection Clearance Officer, IT Enterprises Business Services Division, ASP-110.

[FR Doc. 2018-09088 Filed 4-30-18; 8:45 am]

BILLING CODE 4910-13-P